FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier and Ocean Freight Forwarder Transportation Intermediary Applicants

Scotia Ocean Services, LTD, 15550 Vickery Drive, Suite 100, Houston, TX 77032, Michael K. McGovern, Sole Proprietor.

Caribbean Ocean Corp. (JA), 8005 NW 80th Street, Unit 4, Miami, FL 33167. Officers: Hugh Osborne, Vice President. (Qualifying Individual), Dean Osborne, President.

Total Forwarding LLC dba Norse Ocean Lines, dba Total Forwarding, 130 Grandview Trace, Fayetteville, GA 30215. Officer: Johnny S. Flaten, Director (Qualifying Individual).

Aarid Enterprise Corp., 1340 Chesapeake Ave., Baltimore, MD 21226. Officers: William Donald Dailey, President, Anita Lynn Knapp, Vice President, Betty Lee Lewis, Secretary (Qualifying Individuals).

Dated: May 10, 2007.
Bryant L. VanBrakle,
Secretary.

[FR Doc. E7-9330 Filed 5-14-07; 8:45 am]

BILLING CODE 6730-01-P